DEPARTMENT OF ENERGY

Federal Energy Regulatory Commission

[Docket No. CP16-17-000]

Millennium Pipeline Company, L.L.C.; Notice of Schedule for Environmental Review of the Valley Lateral Project

On November 13, 2015, Millennium Pipeline Company, L.L.C. (Millennium) filed an application in Docket No. CP16-17-000 requesting a Certificate of Public Convenience and Necessity pursuant to Section 7(c) of the Natural Gas Act to construct and operate certain natural gas pipeline facilities. The proposed project is known as the Valley Lateral Project (Project), and would provide approximately 130,000 dekatherms per day (Dth/d) of firm transportation service to CPV Valley, LLC to serve a new natural gas combined-cycle electric generator in the Town of Wawayanda, New York (CPV Valley Energy Center).

On November 30, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—May 9, 2016

90-day Federal Authorization Decision Deadline—August 7, 2016

If a schedule change becomes necessary, additional notice will be provided so that the relevant agencies are kept informed of the Project's progress.

Project Description

Millennium proposes to construct, install, own, and maintain the proposed Valley Lateral Project, which would involve construction of an approximately 7.9-mile, 16-inch diameter lateral pipeline from Millennium's existing mainline in Orange County, New York to the CPV Valley Energy Center. The Project would also involve construction of a new meter station within the CPV Valley Energy Center property, and pig launcher and receiver facilities.

Background

On July 6, 2015, the Commission issued a Notice of Intent to Prepare an Environmental Assessment for the Proposed Valley Lateral Project and Request for Comments on Environmental Issues (NOI). The NOI was issued during the pre-filing review of the Project in Docket No. PF15-23-000 and was sent to affected landowners; federal, state, and local government agencies; elected officials; environmental and public interest groups; Native American tribes; other interested parties; and local libraries and newspapers. In response to the NOI, the Commission received comments from the U.S. Environmental Protection Agency (EPA) and 48 comments from individual stakeholders. The primary issues raised by commentors are purpose and need, land use, visual impacts, vegetation and wildlife, cumulative impacts, alternatives, air quality and climate change, safety, and socioeconomic impacts.

The EPA and New York State Department of Agriculture and Markets are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-17), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: February 19, 2016.
Nathaniel J. Davis, Sr.,
Deputy Secretary.

[FR Doc. 2016-04144 Filed 2-25-16; 8:45 am]

BILLING CODE 6717-01-P